DEPARTMENT OF ENERGY

Federal Energy Regulatory Commission

Combined Notice of Filings #1

March 6, 2008.

Take notice that the Commission received the following electric corporate filings:

Docket Numbers: EC08-43-000.

Applicants: Bicent (California) Malburg LLC.

Description: Bicent (California) Malburg LLC submits an application for approval under section 203 of the Federal Power Act for a sale/leaseback financing transaction.

Filed Date: 02/15/2008.

Accession Number: 20080220-0046.

Comment Date: 5 p.m. Eastern Time on Thursday, March 13, 2008.

Take notice that the Commission received the following exempt wholesale generator filings:

Docket Numbers: EG08-45-000.

Applicants: Noble Wethersfield Windpark, LLC.

Description: Notice of Self-Certification of Exempt Wholesale Generator Status of Noble Wethersfield Windpark, LLC.

Filed Date: 03/04/2008.

Accession Number: 20080304-5042.

Comment Date: 5 p.m. Eastern Time on Tuesday, March 25, 2008.

Docket Numbers: EG08-46-000

Applicants: Noble Bellmont Windpark, LLC

Description: Self Certification Notice of Exempt Wholesale Generator Status of Noble Bellmont Windpark, LLC.

Filed Date: 03/04/2008

Accession Number: 20080304-5043

Comment Date: 5 p.m. Eastern Time on Tuesday, March 25, 2008.

Docket Numbers: EG08-47-000.

Applicants: Noble Chateaugay Windpark, LLC.

Description: Notice of Self-Certification of Exempt Wholesale Generator Status of Noble Chateaugay Windpark, LLC.

Filed Date: 03/04/2008.

Accession Number: 20080304-5046.

Comment Date: 5 p.m. Eastern Time on Tuesday, March 25, 2008.

Take notice that the Commission received the following electric rate filings:

Docket Numbers: ER95-1528-018; ER96-1088-045; ER01-2659-012; ER02-2199-010; ER03-54-010; ER03-56-010; ER96-1858-023; ER03-674-012; ER99-1936-011; ER01-1114-011; ER97-2758-018; ER05-89-011; ER05-453-003.

Applicants: Wisconsin Public Service Corporation; WPS Power Development, LLC; WPS Energy Services, Inc., Combined Locks Energy Center, LLC; WPS Empire State, Inc.; WPS Beaver Falls Generation, LLC, WPS Syracuse Generation, LLC; Mid-American Power, LLC; Quest Energy, LLC; WPS Canada Generation, Inc.; New England Generation, Inc.; WPS Westwood Generation, LLC; Advantage Energy, Inc.; Upper Peninsula Power Company; Wisconsin Public Service Corporation.

Description: Integrys Energy Group, Inc submits revised market-based rate tariffs.

Filed Date: 02/29/2008.

Accession Number: 20080304-0001.

Comment Date: 5 p.m. Eastern Time on Friday, March 21, 2008.

Docket Numbers: ER01-48-011.

Applicants: Powerex Corp.

Description: Powerex Corp submits the Third Revised Rate Schedule 1 as an amendment to their December 3rd Notice of a Non-Material Change in Status etc.

Filed Date: 02/29/2008.

Accession Number: 20080305-0037.

Comment Date: 5 p.m. Eastern Time on Friday, March 21, 2008.

Docket Numbers: ER04-805-007.

Applicants: Wabash Valley Power Association, Inc.

Description: Wabash Valley Power Association Inc requests that FERC find that the acquisition of 260 MW's of generating capacity from Duke Energy Indiana does not reflect a material departure from the characteristics relied on etc.

Filed Date: 02/29/2008.

Accession Number: 20080304-0305.

Comment Date: 5 p.m. Eastern Time on Friday, March 21, 2008.

Docket Numbers: ER07-1239-001; ER07-1240-001.

Applicants: Tiverton Power Inc.; Rumford Power Inc.

Description: Application by Rumford Power Inc and Tiverton Power Inc for Category 2 Exemption Pursuant to 868 or Order 697. (Replacement for 20080228-5073).

Filed Date: 02/28/2008.

Accession Number: 20080228-4004.

Comment Date: 5 p.m. Eastern Time on Thursday, March 20, 2008.

Docket Numbers: ER07-1311-002.

Applicants: Southwest Power Pool, Inc.

Description: Southwest Power Pool, Inc. submits its compliance filing containing modifications to its Open Access Transmission Tariff.

Filed Date: 03/03/2008.

Accession Number: 20080305-0039

Comment Date: 5 p.m. Eastern Time on Monday, March 24, 2008.

Docket Numbers: ER07-1372-002.

Applicants: Midwest Independent Transmission System Operator, Inc.

Description: Midwest Independent Transmission System Operator Inc. submits the instant compliance filing setting forth the Readiness Advisor ASM and Consolidated Balancing Authority Initiative Verification Plan and Status.

Filed Date: 02/29/2008.

Accession Number: 20080305-0038.

Comment Date: 5 p.m. Eastern Time on Friday, March 21, 2008.

Docket Numbers: ER08-92-003.

Applicants: Virginia Electric and Power Company.

Description: Virginia Electric and Power Co. submits Responses to Questions 1 and 2 of the Commission Staff's 12/19/07 request for supplemental information.

Filed Date: 02/29/2008.

Accession Number: 20080306-0032.

Comment Date: 5 p.m. Eastern Time on Friday, March 21, 2008.

Docket Numbers: ER08-169-002.

Applicants: Midwest Independent Transmission System.

Description: ALLETE, Inc responds to the 1/31/08 Deficiency Letter re section 205 filing to revised Attachment P concerning Grandfathered Agreement.

Filed Date: 03/03/2008.

Accession Number: 20080305-0047.

Comment Date: 5 p.m. Eastern Time on Monday, March 24, 2008.

Docket Numbers: ER08-281-001.

Applicants: Oklahoma Gas and Electric Company.

Description: Oklahoma Gas and Electric Co. submits revised tariff sheets to the Open Access Transmission Tariff.

Filed Date: 03/03/2008.

Accession Number: 20080305-0042.

Comment Date: 5 p.m. Eastern Time on Monday, March 24, 2008.

Docket Numbers: ER08-327-001.

Applicants: Niagara Mohawk Power Corporation.

Description: Niagara Mohawk Power Corporation provides the ESSA in an Order 614 compliant format to the instant filing.

Filed Date: 03/03/2008.

Accession Number: 20080305-0019.

Comment Date: 5 p.m. Eastern Time on Monday, March 24, 2008.

Docket Numbers: ER08-345-001.

Applicants: Northwestern Corp.

Description: NorthWestern Corporation submits revised rate schedule sheets designated as Original Sheet 25-26 to the Rate Schedule 188 submitted on 12/17/07.

Filed Date: 03/04/2008.

Accession Number: 20080305-0043.

Comment Date: 5 p.m. Eastern Time on Tuesday, March 25, 2008.

Docket Numbers: ER08-346-001.

Applicants: Midwest Independent Transmission System Operator, Inc.

Description: Midwest Independent Transmission System Operator, Inc. submits revisions to Module A of the Midwest ISO's Open Access Transmission and Energy Markets Tariff, FERC Electric Tariff, Third Revised Volume 1 etc.

Filed Date: 03/03/2008.

Accession Number: 20080305-0020.

Comment Date: 5 p.m. Eastern Time on Monday, March 24, 2008.

Docket Numbers: ER08-446-001.

Applicants: Kelson Energy III LLC.

Description: Kelson Energy III LLC notifies the Commission of certain changes in the characteristics relied upon to grant market-based rate authority to K3.

Filed Date: 02/29/2008.

Accession Number: 20080304-0270.

Comment Date: 5 p.m. Eastern Time on Friday, March 21, 2008.

Docket Numbers: ER08-600-000.

Applicants: Kansas City Power & Light Company.

Description: Luke Paper Company submits Application for Market-Based Rate Authorization, Certain Waivers and Blanket Authorizations.

Filed Date: 02/29/2008.

Accession Number: 20080304-0233.

Comment Date: 5 p.m. Eastern Time on Friday, March 21, 2008.

Docket Numbers: ER08-615-000.

Applicants: Central Vermont Public Service Corp.; Green Mountain Power Corporation; New England Power Company; Northeast Utilities Service Company; United Illuminating Company, The.

Description: Central Vermont Public Service Corp et al submits amendments to Schedule 20A of Section II of the Independent System Operator—New England Transmission, Markets and Services Tariff.

Filed Date: 02/29/2008.

Accession Number: 20080304-0047.

Comment Date: 5 p.m. Eastern Time on Friday, March 21, 2008.

Docket Numbers: ER08-616-000.

Applicants: Avista Corporation.

Description: Avista Corp submits revised sheets to its Amended and Restated Power Transfer Agreement with Public Utility District #2 of Grant County, WA.

Filed Date: 02/29/2008.

Accession Number: 20080304-0235.

Comment Date: 5 p.m. Eastern Time on Friday, March 21, 2008.

Docket Numbers: ER08-617-000.

Applicants: California Independent System Operator Corporation.

Description: California Independent System Operator Corporation submits the Interconnected Balancing Authority Area Operating as Amended and Restated with Western Area Power Administration etc.

Filed Date: 02/29/2008.

Accession Number: 20080304-0237.

Comment Date: 5 p.m. Eastern Time on Friday, March 21, 2008.

Docket Numbers: ER08-618-000.

Applicants: New York Independent System Operator, Inc.

Description: New York Independent System Operator, Inc et al. submits an unexecuted Merchant Transmission Facility Interconnection Agreement.

Filed Date: 02/29/2008.

Accession Number: 20080304-0048.

Comment Date: 5 p.m. Eastern Time on Friday, March 21, 2008.

Docket Numbers: ER08-619-000.

Applicants: Southern Company Services, Inc.

Description: Georgia Power Company's Updated Depreciation Rates for use the calculation of charges for services provided under Scherer Unit 4 Transmission Service Agreements with Jacksonville Electric Authority et al.

Filed Date: 02/29/2008.

Accession Number: 20080304-0234.

Comment Date: 5 p.m. Eastern Time on Friday, March 21, 2008.

Docket Numbers: ER08-621-000.

Applicants: Xcel Energy Operating Companies.

Description: Excel Energy Operating Companies submits Seventh Revised Sheet 48-56 of its FERC Electric Tariff, Original Volume 3 Rate Schedule 2, Revised tariff sheets effective 1/1/08.

Filed Date: 02/29/2008.

Accession Number: 20080304-0232.

Comment Date: 5 p.m. Eastern Time on Friday, March 21, 2008.

Docket Numbers: ER08-623-000.

Applicants: Southern Company Services, Inc.

Description: Georgia Power Company's submits updated Depreciation Rates for use in the calculation of charges for services provided under 1988 Unit power Sales Agreement with Florida Power & Light Company, Florida Power Corp Progress Energy etc.

Filed Date: 02/29/2008.

Accession Number: 20080304-0230.

Comment Date: 5 p.m. Eastern Time on Friday, March 21, 2008.

Docket Numbers: ER08-624-000.

Applicants: New England Power Pool Participants Committee.

Description: New England Power Pool submits Member Applications and Termination of the New England Power Pool.

Filed Date: 02/29/2008.

Accession Number: 20080304-0229.

Comment Date: 5 p.m. Eastern Time on Friday, March 21, 2008.

Docket Numbers: ER08-625-000.

Applicants: Avista Corporation.

Description: Avista Corporation submits non-standard Long Term Firm Point-to-Point Transmission Service Agreements with the City of Seattle, WA.

Filed Date: 02/29/2008.

Accession Number: 20080304-0045.

Comment Date: 5 p.m. Eastern Time on Friday, March 21, 2008.

Docket Numbers: ER08-626-000.

Applicants: Avista Corporation.

Description: Avista Corporation submits non-standard Long Term Use-of-Facilities Agreements with the City of Tacoma, WA.

Filed Date: 02/29/2008.

Accession Number: 20080304-0046.

Comment Date: 5 p.m. Eastern Time on Friday, March 21, 2008.

Docket Numbers: ER08-627-000.

Applicants: NSTAR Electric Company.

Description: NSTAR Electric Co. submits modifications and amendments to Schedule 20A-NSTAR of Section II of the ISO New England, Inc Open Access Transmission Tariff.

Filed Date: 02/29/2008.

Accession Number: 20080304-0044.

Comment Date: 5 p.m. Eastern Time on Friday, March 21, 2008.

Docket Numbers: ER08-628-000.

Applicants: California Independent System Operator Corporation.

Description: California Independent System Operator Corp. submits proposed amendments to its FERC Electric Tariff CAISO Tariff, and MRTU Tariff).

Filed Date: 02/29/2008.

Accession Number: 20080304-0043.

Comment Date: 5 p.m. Eastern Time on Friday, March 21, 2008.

Docket Numbers: ER08-629-000.

Applicants: Idaho Power Company.

Description: Idaho Power Co. requests that FERC approve of certain deferred costs that they incurred as a results of its participation in the attempt to develop the Grid West and RTO West Transmission Organizations.

Filed Date: 02/29/2008.

Accession Number: 20080304-0050.

Comment Date: 5 p.m. Eastern Time on Friday, March 21, 2008.

Docket Numbers: ER08-630-000.

Applicants: Carolina Power & Light Company.

Description: Carolina Power & Light Co. submits a Network Integration Transmission Service Agreements and Network Operating Agreements with the Town of Black Creek, NC et al.

Filed Date: 02/29/2008.

Accession Number: 20080304-0042.

Comment Date: 5 p.m. Eastern Time on Friday, March 21, 2008.

Docket Numbers: ER08-631-000.

Applicants: Raider Dog LLC.

Description: Raider Dog LLC's petition for acceptance of FERC Electric Tariff, Original Volume 1 under which it will engage in wholesale electric power and energy transactions etc.

Filed Date: 03/03/2008.

Accession Number: 20080304-0271.

Comment Date: 5 p.m. Eastern Time on Monday, March 24, 2008.

Docket Numbers: ER08-632-000.

Applicants: DC Energy Texas, LLC.

Description: DC Energy Texas, LLC's petition for acceptance of initial tariff, waivers and blanket authority.

Filed Date: 03/03/2008.

Accession Number: 20080304-0268.

Comment Date: 5 p.m. Eastern Time on Monday, March 24, 2008.

Docket Numbers: ER08-633-000.

Applicants: ISO New England Inc.

Description: ISO New England Inc submits Forward Capacity Auction Results Filing.

Filed Date: 03/03/2008.

Accession Number: 20080304-0269.

Comment Date: 5 p.m. Eastern Time on Monday, March 24, 2008.

Docket Numbers: ER08-634-000.

Applicants: Public Service Company of New Mexico.

Description: Public Service Company of New Mexico submits a Coordination Letter Agreement with Navajo Tribal Utility Authority for Interconnection Agreement of the NTUA Coalmine Switching Station etc.

Filed Date: 03/04/2008.

Accession Number: 20080305-0044.

Comment Date: 5 p.m. Eastern Time on Tuesday, March 25, 2008.

Take notice that the Commission received the following electric securities filings:

Docket Numbers: ES08-32-000.

Applicants: Noble Bellmont Windpark, LLC; Noble Chateaugay Windpark, LLC; Noble Wethersfield Windpark, LLC

Description: Noble Bellmont Windpark, LLC et al. request Authorization to Issue Securities and Assume Liabilities and Request for Expedited Consideration.

Filed Date: 02/29/2008.

Accession Number: 20080305-0021.

Comment Date: 5 p.m. Eastern Time on Friday, March 21, 2008.

Take notice that the Commission received the following open access transmission tariff filings:

Docket Numbers: OA07-46-001.

Applicants: Florida Power & Light Company.

Description: Florida Power & Light Company's OATT Compliance Filing.

Filed Date: 03/03/2008.

Accession Number: 20080303-5068.

Comment Date: 5 p.m. Eastern Time on Monday, March 24, 2008.

Docket Numbers: OA07-53-001.

Applicants: Progress Energy, Inc.

Description: OATT Compliance Filing of Progress Energy, Inc. on behalf of Carolina Power & Light Co. and Florida Power Corp. in response to Jan. 31, 2008 Order and related portions of Order 890-A.

Filed Date: 03/03/2008.

Accession Number: 20080303-5023.

Comment Date: 5 p.m. Eastern Time on Monday, March 24, 2008.

Docket Numbers: OA07-61-001.

Applicants: Maine Public Service Company.

Description: Maine Public Service Company submits revised tariff sheets to the MPS Open Access Transmission Tariff.

Filed Date: 03/03/2008.

Accession Number: 20080305-0022.

Comment Date: 5 p.m. Eastern Time on Monday, March 24, 2008.

Take notice that the Commission received the following public utility holding company filings:

Docket Numbers: PH08-22-000.

Applicants: MDU Resources Group, Inc.

Description: Exemption Notification of MDU Resources Group, Inc. under PH08-22.

Filed Date: 03/04/2008.

Accession Number: 20080304-5052.

Comment Date: 5 p.m. Eastern Time on Tuesday, March 25, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E8-5128 Filed 3-13-08; 8:45 am]

BILLING CODE 6717-01-P